COMMITTEE FOR PURCHASE FROM PEOPLE WHO ARE BLIND OR SEVERELY DISABLED

Procurement List; Additions

AGENCY: Committee for Purchase From People Who Are Blind or Severely Disabled.

ACTION: Additions to the procurement list.

SUMMARY: This action adds service(s) to the Procurement List that will be furnished by nonprofit agencies employing persons who are blind or have other severe disabilities.

DATES: Date added to and deleted from the Procurement List: September 16, 2021; September 22, 2021; September 29, 2021.

ADDRESSES: Committee for Purchase From People Who Are Blind or Severely Disabled, 1401 S Clark Street, Suite 715, Arlington, Virginia 22202-4149.

FOR FURTHER INFORMATION CONTACT: Michael R. Jurkowski, Telephone: (703) 785-6404, or email CMTEFedReg@AbilityOne.gov.

SUPPLEMENTARY INFORMATION:

Additions

On 6/11/2021, 6/18/2021, and 6/25/2021, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the service(s) and impact of the additions on the current or most recent contractors, the Committee has determined that the service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) and service(s) to the Government.

2. The action will result in authorizing small entities to furnish the product(s) and service(s) to the Government.

3. There are no known regulatory alternatives which would accomplish the objectives of the Javits-Wagner-O'Day Act (41 U.S.C. 8501-8506) in connection with the product(s) and service(s) proposed for addition to the Procurement List.

End of Certification

Accordingly, the following service(s) are added to the Procurement List:

Service(s)

Service Type: Furniture Design, Configuration and Installation

Mandatory for: U.S. Department of Commerce, U.S. Census Bureau, Suitland, MD and U.S. Census Bowie Computer Center, Bowie, MD

Designated Source of Supply: Industries for the Blind and Visually Impaired, Inc., West Allis, WI

Contracting Activity: U.S. CENSUS BUREAU, DEPT OF COMMERCE CENSUS

The Committee finds good cause to dispense with the 30-day delay in the effective date normally required by the Administrative Procedure Act. See 5 U.S.C. 553(d). This addition to the Committee's Procurement List is effectuated because of the expiration of the U.S. Census Bureau, Furniture Design, Configuration & Installation contract. The Federal customer contacted and has worked diligently with the AbilityOne Program to fulfill this service need under the AbilityOne Program. To avoid performance disruption, and the possibility that the U.S. Census Bureau will refer its business elsewhere, this addition must be effective on September 16, 2021, ensuring timely execution for a September 17, 2021, start date while still allowing eight (8) days for comment. Pursuant to its own regulation 41 CFR 51-2.4, the Committee determined that no severe adverse impact exists on any current contractor, as this is new requirement never having been contracted for in the past. The Committee also published a notice of proposed Procurement List addition in the Federal Register on June 25, 2021 and did not receive any comments from any interested persons. This addition will not create a public hardship and has limited effect on the public at large, but, rather, will create new jobs for other affected parties—people with significant disabilities in the AbilityOne program who otherwise face challenges locating employment. Moreover, this addition will enable Federal customer operations to continue without interruption.

Service Type: Contractor Operated Parts Store (COPARS)

Mandatory for: U.S. Marine Corps, Motor Transportation Department, Marine Corps Base Hawaii, Kaneohe Bay, HI

Designated Source of Supply: Training, Rehabilitation, & Development Institute, Inc., San Antonio, TX

Contracting Activity: DEPT OF THE NAVY, HQBN MCBH

The Committee finds good cause to dispense with the 30-day delay in the effective date normally required by the Administrative Procedure Act. See 5 U.S.C. 553(d). This addition to the Committee's Procurement List is effectuated because of the expiration of the U.S. Marine Corps, Contractor Operated Parts Store (COPRS) contract. The Federal customer contacted and has worked diligently with the AbilityOne Program to fulfill this service need under the AbilityOne Program. To avoid performance disruption, and the possibility that the U.S. Marine Corps will refer its business elsewhere, this addition must be effective on September 22, 2021, ensuring timely execution for a September 23, 2021, start date while still allowing 14 days for comment. Pursuant to its own regulation 41 CFR 51-2.4, the Committee has been in contact with one of the affected parties, the incumbent of the expiring contract, since July 2020 and determined that no severe adverse impact exists. The Committee also published a notice of proposed Procurement List addition in the Federal Register on June 18, 2021 and did not receive any comments from any interested persons, including from the incumbent contractor. This addition will not create a public hardship and has limited effect on the public at large, but, rather, will create new jobs for other affected parties—people with significant disabilities in the AbilityOne program who otherwise face challenges locating employment. Moreover, this addition will enable Federal customer operations to continue without interruption.

Service Type: Facility Maintenance Support Service

Mandatory for: U.S. Marshals Service, U.S. Marshals Service Headquarters, Arlington, VA

Designated Source of Supply: Chimes District of Columbia, Baltimore, MD

Contracting Activity: U.S. MARSHALS SERVICE, U.S. DEPT OF JUSTICE, USMS

The Committee finds good cause to dispense with the 30-day delay in the effective date normally required by the Administrative Procedure Act. See 5 U.S.C. 553(d). This addition to the Committee's Procurement List is effectuated because of the expiration of the U.S. Marshals Service, Facility Maintenance Support contract. The Federal customer contacted and has worked diligently with the AbilityOne Program to fulfill this service need under the AbilityOne Program. To avoid performance disruption, and the possibility that the U.S. Marshals Service will refer its business elsewhere, this addition must be effective on September 29, 2021, ensuring timely execution for a September 30, 2021, start date while still allowing 22 days for comment. Pursuant to its own regulation 41 CFR 51-2.4, the Committee determined that no severe adverse impact exists as there is no incumbent contractor. The Committee also published a notice of proposed Procurement List addition in the Federal Register on June 11, 2021 and did not receive any comments from any interested persons. This addition will not create a public hardship and has limited effect on the public at large, but, rather, will create new jobs for other affected parties—people with significant disabilities in the AbilityOne program who otherwise face challenges locating employment. Moreover, this addition will enable Federal customer operations to continue without interruption.

Michael R. Jurkowski,
Acting Director, Business Operations.

[FR Doc. 2021-19381 Filed 9-3-21; 8:45 am]

BILLING CODE 6353-01-P